DEPARTMENT OF ENERGY

Environmental Management Site-Specific Advisory Board, Idaho

AGENCY: Department of Energy.

ACTION: Notice of open meeting.

SUMMARY: This notice announces a meeting of the Environmental Management Site-Specific Advisory Board (EM SSAB), Idaho. The Federal Advisory Committee Act (Pub. L. 92-463, 86 Stat. 770) requires that public notice of these meeting be announced in the Federal Register.

DATES: Tuesday, July 17, 2001, 8 a.m.-6 p.m.; Wednesday, July 18, 2001, 8 a.m.-5 p.m.

Public participation sessions will be held on: Tuesday, July 17, 2001, 12:15-12:30 p.m, 5:45-6 p.m.; Wednesday, July 18, 2001, 11:45-12 noon, 3:30-3:45 p.m.

These times are subject to change as the meeting progresses. Please check with the meeting facilitator to confirm these times.

ADDRESSES: Ameritel Inn, 645 Lindsay Boulevard, Idaho Falls, Idaho.

FOR FURTHER INFORMATION CONTACT: Ms. Wendy Lowe, Idaho National Engineering and Environmental Laboratory (INEEL) Citizens' Advisory Board (CAB) Facilitator, Jason Associates Corporation, 477 Shoup Avenue, Suite 205, Idaho Falls, ID 83402, Phone (208) 522-1662 or visit the Board's Internet home page at http://www.ida.net/users/cab.

SUPPLEMENTARY INFORMATION: Purpose of the Board: The purpose of the Board is to make recommendations to the Department of Energy and its regulators in the areas of future use, cleanup levels, waste disposition and cleanup priorities at the INEEL.

Tentative Agenda: (Agenda topics may change up to the day of the meeting. Please contact Jason Associates for the most current agenda or visit the CAB's Internet site at www.ida.net/users/cab/).

Presentations on the following:

• The conceptual design, siting, and waste acceptance criteria for the INEEL Comprehensive Environmental Response, Compensation and Liability Act (CERCLA) Disposal Facility

• The remaining major components of the EM Program (Waste Area Group 7 cleanup program, the rest of the cleanup program, and the site-wide infrastructure program) for consideration in development of a recommendation on budget priorities within limited funding levels

Discussion of the following:

• Consider development of a recommendation addressing priorities under the Environmental Management Program budget for use in the event that insufficient funds are provided to allow INEEL to conduct the program as desired

Status Reports on the following:

• Workforce restructuring at the INEEL

• Preparations for the 2001 fire season

• Top-down DOE-HQ review

Review:

• Follow-up activities related to the May 2001 Self-Evaluation Retreat

• A process to set priorities for the INEEL CAB over the next year of operation

Public Participation: This meeting is open to the public. Written statements may be filed with the Board facilitator either before or after the meeting. Individuals who wish to make oral presentations pertaining to agenda items should contact the Board Chair at the address or telephone number listed above. Request must be received five days prior to the meeting and reasonable provision will be made to include the presentation in the agenda. The Deputy Designated Federal Officer, Jerry Bowman, Assistant Manager for Laboratory Development, Idaho Operations Office, U.S. Department of Energy, is empowered to conduct the meeting in a fashion that will facilitate the orderly conduct of business. Every individual wishing to make public comment will be provided equal time to present their comments. Additional time may be made available for public comment during the presentations.

Minutes: The minutes of this meeting will be available for public review and copying at the Freedom of Information Public Reading Room, 1E-190, Forrestal Building, 1000 Independence Avenue, SW., Washington, DC 20585, between 9 a.m. and 4 p.m., Monday through Friday except Federal holidays. Minutes will also be available by writing to Ms. Wendy Lowe, INEEL CAB Facilitator, Jason Associates Corporation, 477 Shoup Avenue, Suite 205, Idaho Falls, ID 83402 or by calling (208) 522-1662.

Issued at Washington, DC on June 18, 2001.
Belinda Hood,
Acting Deputy Advisory Committee Management Officer.

[FR Doc. 01-15683 Filed 6-21-01; 8:45 am]

BILLING CODE 6450-01-U